DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of June, 2001.

In order for an affirmative determination to be made and a certification of eligibility to apply for worker adjustment assistance to be issued, each of the group eligibility requirements of Section 222 of the Act must be met.

(1) That a significant number or proportion of the workers in the workers' firm, or an appropriate subdivision thereof, have become totally or partially separated.

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,719; Weyerhaeuser Co., Southern Lumber and Plywood Div., Dierks, AR

TA-W-39,346; Acadia Elastomers Corp., Acadia Polymers Div., Acadia Paragould, Acadia, AR

TA-W-39,722; Lancaster Electro Plating, Lancaster, OH

TA-W-39,264; Cummins Engine Co., Fleetguard/Nelson Div., Neillsville, WI

TA-W-38,682 & A; Cummins Engine Co., Fleetguard/Nelson Div., Viroqua, WI and Black River Falls, WI

TA-W-38,809; Blue Mountain Products LLC, Pendleton, OR

In the following cases, the investigation revealed that the criteria for eligibility have not been met for the reasons specified.

Increased imports did not contribute importantly to worker separations at the firm.

TA-W-39,341; Dairy Farmers of America, IN., Fergus Falls, MN

TA-W-39,241; Johnson Controls, Sycamore, IL

TA-W-39,360; Kachina Communications, Inc., Cottonwood, AZ

TA-W-39,186; Renfro Hosiery, Mount Airy, NC

TA-W-39,226; Texler, Inc., Macedonia, OH

The workers firm does not produce an article as required for certification under Section 222 of the Trade Act of 1974.

TA-W-39,317; Alltel Communications, Inc., Savannah, GA

TA-W-39,400; P.J. Sewing Co., Inc., Ivyland, PA

The investigation revealed that criteria (1) has not been met. A significant number or proportion of the workers did not become totally or partially separated from employment as required for certification.

TA-W-39,207; Prairie Wood Products, Prairie City, OR

Affirmative Determinations for Worker Adjustment Assistance

The following certifications have been issued; the date following the company name and location of each determination references the impact date for all workers of such determination.

TA-W-38,803; Carlisle Motion Control Industries, Inc., Ridgway, PA: February 23, 2000.

TA-W-39,086; Dunbrooke Industries, Inc., Lexington, MO: April 6, 2000.

TA-W-38,972; KoSa, Shelby, NC: March 22, 2000.

TA-W-39,193; Dani Max, New York, NY: April 7, 2000.

TA-W-38,939; Litton Network Access Systems, A Div. Litton Systems, Roanoke, VA: March 16, 2000.

TA-W-38,455; Plainwell, Inc., Plainwell, MI: December 7, 1999.

TA-W-39,050; SCI Systems, Inc., Augusta, ME: June 23, 2000.

TA-W-39,009; Astaris LLC, Pocatello, ID: April 2, 2000.

TA-W-39,304; Berg Lumber Co., Lewiston, MT: May 7, 2000.

TA-W-39,425; Hoover Precision Products, Inc., Washington, IN: May 24, 2000.

TA-W-39,318; Continental Industries, Mesa, AZ: May 24, 2000.

TA-W-39,029; Atofina Chemicals, Inc., Portland, OR: April 4, 2000.

TA-W-39,011; Texas Boot, Inc., Hartsville, TN and Nashville, TN: June 16, 2001.

TA-W-39,235; Krupp Hoesch Suspensions, Inc., Hamilton, OH: April 27, 2001.

TA-W-39,336; Meridian Automotive Systems, Lapeer Operations, Lapeer, MI: April 4, 2000.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June, 2001.

In order for an affirmative determination to be made and a certification of eligibility to apply for NAFTA-TAA the following group eligibility requirements of Section 250 of the Trade Act must be met:

(1) that a significant number or proportion of the workers in the workers' firm, or an appropriate subdivision thereof, (including workers in any agricultural firm or appropriate subdivision thereof) have become totally or partially separated from employments and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04741; Berlog, Inc., Warren, OR

NAFTA-TAA-04878; Dairy Farmers of America, Inc., Fergus Falls, MN

NAFTA-TAA-04766; Cummings Engine Co., Fleetguard/Nelson Div., Neillsville, WI

NAFTA-TAA-04534 & A; Cummings Engine Co., Fleetguard/Nelson Div., Viroqua, WI and Black River Falls, WI

NAFTA-TAA-04601; Blue Mountain Products, LLC, Pendleton, OR

NAFTA-TAA-045701; Detroit Tool and Engineering, Lebanon, MO

NAFTA-TAA-04892; Acadia Elastomers Corp., Acadia Polymers Div., Acadia Paragould, Acadia, AR

NAFTA-TAA-04825; Texler, Inc., Macedonia, OH

NAFTA-TAA-04317; Plainwell, Inc., Plainwell, MI

NAFTA-TAA-04541; Weyerhaeuser Co., Southern Lumber and Plywood Div., Dierks, AR

The investigation revealed that the criteria for eligibility have not been met for the reasons specified.

The workers firm does not produce an article as required for certification under Section 222 of the Trade Act of 1974.

NAFTA-TAA-04904; Illinois Tool Works, Smartcycle, Austin, TX

The investigations revealed that criteria (1) has not been met. A significant number or proportion of the workers in such workers' firm or an appropriate subdivision (including workers in any agricultural form or appropriate subdivision thereof) have been totally or partially separated from employment.

NAFTA-TAA-04783; Prairie Wood Products, Prairie City, OR

Affirmative Determinations NAFTA-TAA

NAFTA-TAA-04885; Continental Industries, Mesa, AZ: May 14, 2000.

NAFTA-TAA-04847; Oglevee, Ltd, Fredonia, PA: April 30, 2000.

NAFTA-TAA-04916; Hoover Precision Products, Inc., Washington, IN: May 24, 2000.

NAFTA-TAA-04721; Atofina Chemicals, Inc., Portland, OR: April 4, 2000.

NAFTA-TAA-04576; API Gettys, Inc., Including Leased Workers of QPS and Ranstand, Racine, WI: February 19, 2000.

NAFTA-TAA-04893; Kimberly Clark, Conway, AR: May 14, 2000.

NAFTA-TAA-04846; Lear Corp., Interior Systems Div., Lewistown, PA: May 2, 2000.

NAFTA-TAA-04735; SCI Systems, Inc., Augusta, ME: April 6, 2000.

NAFTA-TAA-04934; Cooper Tolls, Inc., Apex, NC: May 30.

I hereby certify that the aforementioned determinations were issued during the month of June, 2001. Copies of these determinations are available for inspection in Room C-5311, U.S. Department of Labor, 200 Constitution Avenue, NW., Washington, DC 20210 during normal business hours or will be mailed to persons who write to the above address.

Dated: June 25, 2001.
Edward A. Tomchick,
Director, Division of Trade Adjustment Assistance.

[FR Doc. 01-16848 Filed 7-3-01; 8:45 am]

BILLING CODE 4510-30-M